DEPARTMENT OF THE INTERIOR

Bureau of Indian Affairs

[190A2100DD/AAKC001030/A0A501010.999900 253G]

Notice of Deadline for Submitting Completed Applications To Begin Participation in the Tribal Self-Governance Program in Fiscal Year 2020 or Calendar Year 2020; Correction.

AGENCY: Bureau of Indian Affairs, Interior.

ACTION: Notice of application deadline; correction.

SUMMARY: The Bureau of Indian Affairs published a document in the Federal Register of February 21, 2019, establishing an Office of Self-Governance deadline for Indian Tribes/consortia to submit completed applications to begin participation in the Tribal self-governance program in fiscal year 2020 or calendar year 2020. The document contained an incorrect date.

DATES: Completed application packages must be received by the Director, Office of Self-Governance, by April 30, 2019.

ADDRESSES: Application packages for inclusion in the applicant pool should be sent to Ms. Sharee M. Freeman, Director, Office of Self-Governance, Department of the Interior, Mail Stop 2071-MIB, 1849 C Street NW, Washington, DC 20240.

FOR FURTHER INFORMATION CONTACT: Dr. Kenneth D. Reinfeld, Office of Self-Governance, Telephone (703) 390-6551.

SUPPLEMENTARY INFORMATION:

Correction

In the Federal Register of February 21, 2019, in FR Doc. 2019-02860, on page 5464, in the second column, correct the Dates caption to read:

DATES: Completed application packages must be received by the Director, Office of Self-Governance, by April 30, 2019.

Dated: April 12, 2019.
Tara Sweeney,
Assistant Secretary—Indian Affairs.

[FR Doc. 2019-09322 Filed 5-6-19; 8:45 am]

BILLING CODE 4337-15-P